DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under the Office of Management and Budget (OMB) review, in compliance with the Paperwork Reduction Act (44 U.S.C. Chapter 35). To request a copy of these documents, call the SAMHSA Reports Clearance Officer on (240) 276-0661.

Project: Extension to SAMHSA's 0930-0393 Fast Track Generic Clearance for the Collection of Qualitative Feedback on the Substance Abuse and Mental Health Services Administration (SAMHSA) Service Delivery

Executive Order 12862 directs Federal agencies to provide service to the public that matches or exceeds the best service available in the private sector. In order to work continuously to ensure that our programs are effective and meet our customers' needs, SAMHSA seeks to obtain the OMB approval of a generic clearance to collect qualitative feedback on our service delivery. By qualitative feedback we mean information that provides useful insights on perceptions and opinions but are not statistical surveys that yield quantitative results that can be generalized to the population of study.

This collection of information is necessary to enable SAMHSA to garner customer and stakeholder feedback in an efficient, timely manner, in accordance with our commitment to improving service delivery. The information collected from our customers and stakeholders will help ensure that users have an effective, efficient, and satisfying experience with SAMHSA's programs. This feedback will provide insights into customer or stakeholder perceptions, experiences and expectations, provide an early warning of issues with service, or focus attention on areas where communication, training or changes in operations might improve delivery of products or services. These collections will allow for ongoing, collaborative and actionable communications between SAMHSA and its customers and stakeholders. It will also allow feedback to contribute directly to the improvement of program management.

This is an extension to the currently approved 0930-0393 Fast Track Generic Clearance for the Collection of Qualitative Feedback on SAMHSA Service Delivery which replaced multiple previously approved SAMHSA information collections including 0930-0197 Voluntary Customer Satisfaction Surveys to Implement Executive Order 12862 in SAMHSA, 0930-0196 Pretesting of Substance Abuse Prevention and Treatment and Mental Health Services Communications Messages, and 0930-0313 SAMHSA's Publications and Digital Products website Registration Survey. Changes were not made to this Information Collection Request from the previous approval. The information collections (ICs) under Generic collections 0930-0196 and 0930-0197 were transferred to the Fast Track Generic. After the IC transferred, the 0196 and 0197 Generic collections were discontinued. The 0930-0313 SAMHSA's Publications and Digital Products website Registration Survey consisted of customer satisfaction/feedback questions along with a SAMHSA website survey and a SAMHSA store survey developed utilizing the main pool of questions. The 0930-0313 information collection became an IC under the new Fast Track once it was approved and the 0313-information collection request (ICR) was discontinued. SAMHSA will continue due diligence to improve efficiency and lower burden by determining if other information collections are better served by becoming part of the Fast Track Generic.

A variety of instruments and platforms will be used to collect information from respondents. The annual burden hours requested (60,250) are based on the number of collections we expect to conduct over the requested period for this clearance. The burden estimates were calculated based on replacing previously approved burden hours for ICRs 0930-0197, 0930-0196 and 0930-0313 and internal assessments of projected IC submission over the next three years.

Estimated Annual Reporting Burden
Type of collection | Number of respondents | Response per respondent | Hours per response | Total hours | Hourly wage rate ($) | Total hour costs ($)
In-person surveys, online surveys, telephone interviews/surveys, in-person observation/testing, interviews | 75,000 | 1 | 0.37 | 27,750 | $27.00 | $749,250.00
Focus groups | 10,000 | 1 | 2 | 20,000 | 27.00 | 540,000.00
Self-administered questionnaires, customer comment cards, interactive voice surveys | 10,000 | 1 | 0.25 | 2,500 | 27.00 | 67,500.00
Unspecified collection formats | 10,000 | 1 | 1 | 10,000 | 27.00 | 270,000.00
Totals | 105,000 |  |  | 60,250 |  | 1,626,750.00

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2025-23777 Filed 12-23-25; 8:45 am]

BILLING CODE P